DEPARTMENT OF AGRICULTURE

Office of the Secretary

Meeting Notice of the National Agricultural Research, Extension, Education, and Economics Advisory Board

AGENCY: Research, Education, and Economics, USDA.

ACTION: Notice of meeting.

SUMMARY: In accordance with the Federal Advisory Committee Act, 5 U.S.C. App 2, Section 1408 of the National Agricultural Research, Extension, and Teaching Policy Act of 1977 (7 U.S.C. 3123), and the Agricultural Act of 2014, the U.S. Department of Agriculture (USDA) announces a meeting of the National Agricultural Research, Extension, Education, and Economics Advisory Board.

DATES: December 16-18, 2015. The public may file written comments before or up to January 4, 2016.

ADDRESSES: Beltsville Agricultural Research Center, 10300 Baltimore Avenue, Building 005, Room 020, Beltsville, Maryland 20705. Written comments may be sent to: The National Agricultural Research, Extension, Education, and Economics Advisory Board Office, U.S. Department of Agriculture, Room 332A, Jamie L. Whitten Building, Mail Stop 0321, 1400 Independence Avenue SW., Washington, DC 20250-0321.

FOR FURTHER INFORMATION CONTACT: Michele Esch, Executive Director or Shirley Morgan-Jordan, Program Support Coordinator, National Agricultural Research, Extension, Education, and Economics Advisory Board; telephone: (202) 720-3684; fax: (202) 720-6199; or email: michele.esch@usda.gov or Shirley.Morgan@ars.usda.gov.

SUPPLEMENTARY INFORMATION: Purpose of the Meeting: To provide advice and recommendations on the top priorities and policies for food and agricultural research, education, extension, and economics. The main focus of this meeting will be on the food safety and nutrition programs of the USDA Research, Education, and Extension mission area. The Board will also receive updates and information pertinent to the research, education, and economics activities in USDA. A detailed agenda may be received from the contact person identified in this notice.

Tentative Agenda: On Wednesday, December 16, 2015, an orientation session for new members and interested incumbent members will be held from 10:00 a.m.-12:00 p.m. (noon) followed by the full Advisory Board convening at 12:00 p.m. (noon) and ending by 5:30 p.m.

On Thursday, December 17, 2015, the full Advisory Board will convene at 8:00 a.m. and adjourn at 5:00 p.m. An evening session will be held at 6:00 p.m. at the Greenbelt Marriott at 6400 Ivy Lane, Greenbelt, Maryland 20770.

On Friday, December 18, 2015, the Board will reconvene at 8:00 a.m. and adjourn at 12:00 p.m. (noon).

Public Participation: This meeting is open to the public and any interested individuals wishing to attend. Opportunity for public comment will be offered at the end of each day of the meeting. To attend the meeting and/or make oral statements regarding any items on the agenda, you must contact Michele Esch at 202-720-8408; email: Michele.esch@usda.gov at least 5 business days prior to the meeting. Members of the public will be heard in the order in which they sign up at the beginning of the meeting. The Chair will conduct the meeting to facilitate the orderly conduct of business. Written comments by attendees or other interested stakeholders will be welcomed for the public record before and up to two weeks following the Board meeting (or by close of business Monday, January 4, 2014). All written statements must be sent to Michele Esch, Designated Federal Officer and Executive Director, National Agricultural Research, Extension, Education, and Economics Advisory Board, U.S. Department of Agriculture, Room 332A, Jamie L. Whitten Building, Mail Stop 0321,1400 Independence Avenue SW., Washington, DC 20250-0321; or email: michele.esch@usda.gov. All statements will become a part of the official record of the National Agricultural Research, Extension, Education, and Economics Advisory Board and will be kept on file for public review in the Research, Education, and Economics Advisory Board Office.

Done at Washington, DC, this 24th day of November 2015.
Catherine E. Woteki,
Under Secretary, Research, Education, and Economics, Chief Scientist, USDA.

[FR Doc. 2015-30444 Filed 11-30-15; 8:45 am]

BILLING CODE 3410-03-P